DEPARTMENT OF HEALTH AND HUMAN SERVICES

National Institutes of Health

Prospective Grant of Exclusive License: Adenosine A3 Agonists for Use as Therapeutic Agents

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in U.S. Patent Number 5,773,423 entitled “A3 adenosine receptor agonists”, filed July 13, 1994, issued June 30, 1998 and corresponding foreign applications to CanFite BioPharma, Ltd having a place of business in Petah-Tikva, Israel. The patent rights in these inventions have been assigned to the United States of America.

The contemplated exclusive license may be limited to the use of specific compositions of matter disclosed and claimed in the invention for myeloprotection, the treatment of cancer, stem cell mobilization, viral infection and arthritis.

DATES: Only written comments and/or applications for a license which are received by the NIH Office of Technology Transfer on or before July 22, 2002, will be considered.

ADDRESSES: Requests for a copy of the patent application, inquiries, comments and other materials relating to the contemplated license should be directed to: Norbert J. Pontzer, J.D., Ph.D., Technology Licensing Specialist, Office of Technology Transfer, National Institutes of Health, 6011 Executive Boulevard, Suite 325, Rockville, MD 20852-3804; telephone: (301) 496-7736, ext. 284; facsimile: (301) 402-0220, e-mail: np59n@ott.nih.gov. A signed Confidential Disclosure Agreement will be required to receive copies of the patent application.

SUPPLEMENTARY INFORMATION: Current cancer treatment with chemotherapy or radiation is often accompanied by serious side effects related to cytotoxicity at non-cancerous tissue sites. Depression of bone marrow function is one of the most serious side effects in terms of patient morbidity and mortality. CanFite discovered that Adenosine A3 agonists had both a protective action in preventing neutropenia after cancer therapy and in mobilizing bone marrow stem cells for harvest. They found that these agonists also appear to have direct anti-cancer actions.

The prospective exclusive license will be royalty-bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: May 13, 2002.
Jack Spiegel,
Director, Division of Technology Development and Transfer, Office of Technology Transfer.

[FR Doc. 02-13016 Filed 5-22-02; 8:45 am]

BILLING CODE 4140-01-P